DEPARTMENT OF COMMERCE

National Oceanic and Atmospheric Administration

[RTID 0648-XC627]

Western Pacific Fishery Management Council; Public Meetings

AGENCY: National Marine Fisheries Service (NMFS), National Oceanic and Atmospheric Administration (NOAA), Commerce.

ACTION: Notice of public meetings.

SUMMARY: The Western Pacific Fishery Management Council (Council) will hold a meeting of its Archipelagic Plan Team (APT) to discuss fishery management issues and develop recommendations for future management of fisheries in the Western Pacific Region.

DATES: The APT will meet on Wednesday, January 25, 2023, between 11 a.m. and 5 p.m., Hawaii Standard Time (HST). For specific times and agendas, see SUPPLEMENTARY INFORMATION.

ADDRESSES: The meeting will be held by web conference via WebEx. Audio and visual portions for Archipelagic Plan Team meeting can be accessed at: https://wprfmc.webex.com/wprfmc/j.php?MTID=m4526329fde8fc45d62fe330b8d997f1. Web conference access information and instructions for providing public comments will be posted on the Council website at www.wpcouncil.org. For assistance with the web conference connection, contact the Council office at (808) 552-8220.

FOR FURTHER INFORMATION CONTACT: Kitty M. Simonds, Executive Director, Western Pacific Fishery Management Council; phone: (808) 522-8220 (voice) or (808) 522-8226 (fax).

SUPPLEMENTARY INFORMATION: The APT meeting will be held on January 25, 2023, from 11 a.m. to 5 p.m., Hawaii Standard Time (HST) (10 to 4 p.m., Samoa Standard Time (SST); 7 a.m. to 1 p.m. on January 26, 2023, Chamorro Standard Time (ChST)). Opportunities to present oral public comment will be provided on the agenda. The order of the agenda may change, and will be announced in advance at the meeting. The meeting may run past the scheduled times noted above to complete scheduled business.

Agenda for the Archipelagic Plan Team Meeting

Wednesday, January 25, 2023, 11 a.m. to 5 p.m., HST (10 a.m. to 4 p.m., SST; Thursday, January 26, 2023, 7 a.m. to 1 p.m., ChST)

1. Welcome and introductions

2. Approval of draft agenda

3. Review of the Bottomfish Management Unit Species MSA Component Working Group Reports

4. Next steps for the refinement of uku Essential Fish Habitat

5. Discussion/review of Kona Crab Status Determination Criteria

6. APT Working Group updates on Stock Assessment and Fishery Evaluation report improvement projects

7. Public Comment

8. Other Business

9. Plan Team Discussion and Recommendations

Special Accommodations

These meetings are accessible to people with disabilities. Please direct requests for sign language interpretation or other auxiliary aids to Kitty M. Simonds (see FOR FURTHER INFORMATION CONTACT above) at least 5 days prior to the meeting date.

Authority: 16 U.S.C. 1801 et seq.

Dated: January 4, 2023.
Rey Israel Marquez,
Acting Deputy Director, Office of Sustainable Fisheries, National Marine Fisheries Service.

[FR Doc. 2023-00192 Filed 1-9-23; 8:45 am]

BILLING CODE 3510-22-P